DEPARTMENT OF STATE

[Public Notice: 9236]

U.S. Department of State Advisory Committee on Private International Law: Notice of Annual Meeting

The Department of State's Advisory Committee on Private International Law (ACPIL) will hold its annual meeting on Friday, September 25, 2015, in Washington, DC. The meeting will be held at the Gewirz Student Center, Georgetown University Law Center, 600 New Jersey Avenue NW., Washington, DC 20001. The program is scheduled to run from 9:00 a.m. to 4:30 p.m.

Time permitting, we expect that the discussion will focus on developments in many areas of private international law, including arbitration and conciliation, recognition and enforcement of foreign judgments, judicial cooperation, on-line dispute resolution, and potentially new areas of work or development. We encourage active participation by all those attending.

Documents on these subjects are available at www.hcch.net; www.uncitral.org; www.unidroit.org; www.oas.org, and www.nccusl.org. We may, by email, supplement those with additional documents.

Please advise as early as possible if you plan to attend. The meeting is open to the public up to the capacity of the conference facility, and space will be reserved on a first come, first served basis. Persons who wish to have their views considered are encouraged, but not required, to submit written comments in advance. Those who are unable to attend are also encouraged to submit written views. Comments should be sent electronically to pil@state.gov. Those planning to attend should provide name, affiliation and contact information to pil@state.gov. You may also use this email address to obtain additional information. A member of the public needing reasonable accommodation should advise those same contacts not later than September 18. Requests made after that date will be considered, but might not be able to be fulfilled.

Dated: August 18, 2015.
John J. Kim,
Assistant Legal Adviser, Office of Private International Law, Office of the Legal Adviser, Department of State.

[FR Doc. 2015-21161 Filed 8-25-15; 8:45 am]

BILLING CODE 7410-08-P